DEPARTMENT OF TRANSPORTATION

Federal Railroad Administration

[Docket Number FRA-2006-26300]

Petition for Waiver of Compliance

In accordance with part 211 of Title 49 Code of Federal Regulations (CFR), this document provides the public notice that by a document dated February 22, 2013, the Mid-Continent Railway Historical Society, Inc. (MCRY) has petitioned the Federal Railroad Administration (FRA) for an extension of a waiver of compliance from certain provisions of the Federal railroad safety regulations contained at 49 CFR part 223, Safety Glazing Standards—Locomotives, Passenger Cars and Cabooses, and 49 CFR part 231, Railroad Safety Appliance Standards. FRA assigned the petition Docket Number FRA-2006-26300.

Specifically, MCRY has petitioned FRA to grant an extension of relief from the requirements of 49 CFR 223.9(a) and 49 CFR 231.30(c)(ii). In addition, MCRY requests the continuation of a maximum operating speed of 15 mph for operations on MCRY's property. MCRY seeks an extension of the requested relief for Diesel Locomotive MCRY 1256 (MCRY 1256).

On November 3, 2008, FRA granted MCRY a waiver of compliance from the safety glazing provisions of 49 CFR 223.9(a) and from the requirements of 49 CFR 231.30(c)(ii) for MCRY 1256. FRA also approved a maximum operating speed of 15 mph for the operation of MCRY 1256 on MCRY's property. MCRY states that since FRA granted the waiver, it has complied with all of the conditions of the waiver and that there have been no accidents or incidents involving MCRY 1256.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

•Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 28, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 8, 2013.
Robert C. Lauby,
Deputy Associate Administrator for Regulatory and Legislative Operations.

[FR Doc. 2013-11434 Filed 5-13-13; 8:45 am]

BILLING CODE 4910-06-P